Title 3—

The President

Proclamation 10331 of December 30, 2021

National Human Trafficking Prevention Month, 2022

By the President of the United States of America

A Proclamation

Human trafficking—whether in the form of forced labor, sex trafficking, or other offenses—is an abhorrent abuse of power and a profoundly immoral crime that strikes at the safety, health, and dignity of millions of people worldwide. During National Human Trafficking Prevention Month, we reaffirm our commitment to protect and empower survivors of all forms of human trafficking, to prosecute traffickers, and to bring an end to human trafficking in the United States and around the world.

My Administration is committed to stopping human trafficking wherever it occurs. This month, we released the updated National Action Plan to Combat Human Trafficking—a whole-of-government approach to combating human trafficking in the United States and abroad. The plan links anti-trafficking initiatives to our wider efforts to counter illicit financing; advance gender and racial equity; expand the rights and dignity of working people; and promote safe, orderly, and humane migration.

My Administration is also dedicated to ensuring that our justice system holds accountable any individuals or entities engaged in this horrendous crime—and that our domestic and global economic systems offer no safe harbor to forced labor or other abuses. In addition to helping survivors on their road to recovery, we must also learn from their expertise in order to better detect trafficking crimes that are often hidden in plain sight, bring perpetrators to justice, and improve our prevention efforts. Since human trafficking disproportionately impacts racial and ethnic minorities, women and girls, LGBTQI+ individuals, vulnerable migrants, and other historically marginalized and underserved communities, our mission to combat human trafficking must always be connected to our broader efforts to advance equity and justice across our society.

During National Human Trafficking Prevention Month, let us resolve to counter injustice and fortify our commitment to pursue dignity and freedom for all people. The National Human Trafficking Hotline (1-888-373-7888) is an important resource to report a tip or ask for help.

NOW, THEREFORE, I, JOSEPH R. BIDEN JR., President of the United States of America, by virtue of the authority vested in me by the Constitution and the laws of the United States, do hereby proclaim January 2022 as National Human Trafficking Prevention Month. I call upon businesses, civil society organizations, communities of faith, families, and all Americans to recognize the vital role we play in combating human trafficking, and to observe this month with appropriate programs and activities aimed at preventing all forms of human trafficking.

IN WITNESS WHEREOF, I have hereunto set my hand this thirtieth day of December, in the year of our Lord two thousand twenty-one, and of the Independence of the United States of America the two hundred and forty-sixth.

[FR Doc. 2022-00162

Filed 1-5-22; 11:15 am]

Billing code 3395-F2-P